DEPARTMENT OF HEALTH AND HUMAN SERVICES

Centers for Disease Control and Prevention

National Center for Environmental Health/Agency for Toxic Substances and Disease Registry

The Community and Tribal Subcommittee of the Board of Scientific Counselors (BSC), National Center for Environmental Health (NCEH)/Agency for Toxic Substances and Disease Registry (ATSDR), Centers for Disease Control and Prevention (CDC): Teleconference.

In accordance with section 10(a)(2) of the Federal Advisory Committee Act (Pub. L. 92-463), The Centers for Disease Control and Prevention, NCEH/ATSDR announces the following subcommittee meeting:

Name: Community and Tribal Subcommittee (CTS).

Time and Date: 3 p.m.-4:30 p.m., April 4, 2005.

Place: The teleconference will originate at the National Center for Environmental Health/Agency for Toxic Substances and Disease Registry in Atlanta, Georgia. Please see “Supplementary Information” for details on accessing the teleconference.

Status: Open to the public, teleconference access limited only by availability of telephone ports.

Purpose: Under the charge of the Board of Scientific Counselors, NCEH/ATSDR, the Community and Tribal Subcommittee will provide the Board with a forum for community and tribal first-hand perspectives on the interactions and impacts of the NCEH/ATSDR's national and regional policies, practices and programs.

Matters to be Discussed: The teleconference agenda will include continuing discussions from the last teleconference of January 8, 2005, on obtaining directions from the Board on their expectations from the CTS; the community tool kit; faith-based initiative/emergency preparedness; partnering with the Program Review Committee; and an open discussion of other important issues.

The agenda is subject to change as priorities dictate.

Supplementary Information: This conference call is scheduled to begin at 3 p.m. eastern standard time. To participate in the teleconference, please dial (877) 315-6535 and enter conference code 383520.

For Further Information Contact: Sandra Malcom, Committee Management Specialist, Office of Science, NCEH/ATSDR, M/S E-28, 1600 Clifton Road, NE, Atlanta, Georgia 30333, telephone 404/498-0003.

The Director, Management Analysis and Services Office, has been delegated the authority to sign Federal Register notices pertaining to announcements of meetings and other committee management activities for both CDC and the National Center for Environmental Health/Agency for Toxic Substances and Disease Registry.

Dated: March 15, 2005.
Alvin Hall, Director, Management Analysis and Services Office, Centers for Disease Control and Prevention.

[FR Doc. 05-5494 Filed 3-18-05; 8:45 am]

BILLING CODE 4163-70-P